DEPARTMENT OF ENERGY

Federal Energy Regulatory Commission

Combined Notice of Filings #1

Take notice that the Commission received the following electric corporate filings:

Docket Numbers: EC12-90-000.

Applicants: Duke Energy Ohio, Inc., Cinergy Corp., Duke Energy Retail Sales, LLC, Duke Energy Commercial Enterprises, Inc., Duke Energy Hanging Rock II, LLC, Duke Energy Lee II, LLC, Duke Energy Fayette II, LLC, Duke Energy Washington II, LLC, Duke Energy Commercial Asset Management, CinCap V LLC, Duke Energy Piketon, LLC, NewCo, LLC, Duke Energy Miami Fort, LLC, Duke Energy Beckjord, LLC, Duke Energy Stuart, LLC, Duke Energy Killen, LLC, Duke Energy Conesville, LLC, Duke Energy Zimmer, LLC, Duke Energy Dick's Creek, LLC.

Description: Application for Authorization for Disposition of Jurisdictional Facilities under Section 203 of the Federal Power Act of Cinergy Corp., et al.

Filed Date: 4/2/12.

Accession Number: 20120402-5213.

Comments Due: 5 p.m. ET 4/23/12.

Docket Numbers: EC12-91-000.

Applicants: San Diego Gas & Electric Company, Citizens Sunrise Transmission LLC.

Description: Application of SDG&E and CST Regarding Power Transfer Capability Lease and Request for Expedited Action.

Filed Date: 4/2/12.

Accession Number: 20120402-5310.

Comments Due: 5 p.m. ET 4/23/12.

Take notice that the Commission received the following electric rate filings:

Docket Numbers: ER12-760-002.

Applicants: California Independent System Operator Corporation.

Description: 2012-04-02 Penalty Payment Allocation Compliance to be effective 3/5/2012.

Filed Date: 4/2/12.

Accession Number: 20120402-5291.

Comments Due: 5 p.m. ET 4/23/12.

Docket Numbers: ER12-1170-000.

Applicants: Imperial Valley Solar Company (IVSC) 1, LLC.

Description: Amendment to Initial Market-Based Rate Application of Imperial Valley Solar Company (IVSC) 1, LLC.

Filed Date: 04/03/2012.

Accession Number: 20120403-5153.

Comment Date: 5 p.m. ET 4/24/12.

Docket Numbers: ER12-1419-000.

Applicants: Linden VFT, LLC.

Description: Petition for Approval of Settlement Agreements, Request for Limited Waiver of Schedule 16 of PJM Interconnection L.L.C.'s Open Access Transmission Tariff and Request for Shortened Comment Period and Expedited Review of Linden VFT, LLC.

Filed Date: 3/30/12.

Accession Number: 20120330-5489.

Comments Due: 5 p.m. ET 4/10/12.

Docket Numbers: ER12-1420-000.

Applicants: Diamond State Generation Partners, LLC.

Description: Motion of Diamond State Generation Partners, LLC for Waiver of Tariff Provision and for Expedited Consideration.

Filed Date: 3/30/12.

Accession Number: 20120330-5490.

Comments Due: 5 p.m. ET 4/13/12

.

Docket Numbers: ER12-1425-000.

Applicants: Southwest Power Pool, Inc.

Description: 2065R1 Westar Energy, Inc. NITSA NOA to be effective 3/1/2012..

Filed Date: 4/2/12

Accession Number: 20120402-5232.

Comments Due: 5 p.m. ET 4/23/12.

Docket Numbers: ER12-1426-000.

Applicants: Southwest Power Pool, Inc.

Description: 2390 Westar Energy, Inc. NITSA NOA to be effective 3/1/2012.

Filed Date: 4/2/12.

Accession Number: 20120402-5235.

Comments Due: 5 p.m. ET 4/23/12.

Docket Numbers: ER12-1427-000.

Applicants: Kansas City Power & Light Company.

Description: Revised KCP&L Rate Schedule 130 to be effective 6/1/2012.

Filed Date: 4/2/12.

Accession Number: 20120402-5244.

Comments Due: 5 p.m. ET 4/23/12.

Docket Numbers: ER12-1428-000.

Applicants: Entergy Arkansas, Inc.

Description: OATT RTMO Amendments—Sch 7 and Att H to be effective 6/1/2012.

Filed Date: 4/2/12.

Accession Number: 20120402-5253.

Comments Due: 5 p.m. ET 4/23/12

.

Docket Numbers: ER12-1429-000.

Applicants: El Paso Electric Company.

Description: Rate Schedule No. 110 Unexecuted Conforming LGIA with Mescalero Ridge to be effective 6/1/2012.

Filed Date: 4/2/12.

Accession Number: 20120402-5259.

Comments Due: 5 p.m. ET 4/23/12.

Take notice that the Commission received the following electric securities filings:

Docket Numbers: ES12-16-000.

Applicants: Southern Indiana Gas and Electric Company.

Description: Amended Application of Southern Indiana Gas and Electric Company, Inc.

Filed Date: 04/03/2012.

Accession Number: 20120403-5176.

Comment Date: 5 p.m. ET 4/13/12.

Take notice that the Commission received the following open access transmission tariff filings:

Docket Numbers: OA12-3-000.

Applicants: New York Independent System Operator, Inc.

Description: Annual Compliance Report of New York Independent System Operator, Inc. Regarding Unreserved Use and Late Study Penalties.

Filed Date: 4/2/12.

Accession Number: 20120402-5320.

Comments Due: 5 p.m. ET 4/23/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2012.
Nathaniel J. Davis, Sr.,
Deputy Secretary.

[FR Doc. 2012-8567 Filed 4-9-12; 8:45 am]

BILLING CODE 6717-01-P